DEPARTMENT OF THE INTERIOR

Geological Survey

Request for Public Comments on Information Collection Submitted to the Office of Management and Budget for Review Under the Paperwork Reduction Act

The proposed information collection described below has been submitted to the Office of Management and Budget for approval under the provisions of the Paperwork Reduction Act (44 U.S.C. Chapter 35). Copies of the proposed collection of information may be obtained by contacting the Bureau's clearance officer at the phone number listed below. OMB has up to 60 days to approve or disapprove the information collection but may respond after 30 days; therefore, public comments should be submitted to OMB within 30 days in order to assure their maximum consideration. Address your comments and suggestions on the proposal by fax (202) 395-6566 or e-mail (oira_docket@omb.eop.gov) to the Office of Information and Regulatory Affairs, Office of Management and Budget, Attention: Desk Officer for the Interior Department. Send copies of your comments to the USGS Clearance Officer, U.S. Geological Survey, 807 National Center, 12201 Sunrise Valley Drive, Reston, Virginia 20192, or e-mail (jcordyac@usgs.gov).

Specific public comments are requested as to:

1. Whether the collection of information is necessary for the proper performance of the functions on the bureaus, including whether the information will have practical utility;

2. The accuracy of the bureau's estimate of the burden of the collection of information, including the validity of the methodology and assumptions used;

3. The quality, utility, and clarity of the information to be collected; and

4. How to minimize the burden of the collection of information on those who are to respond, including the use of appropriate automated, electronic, mechanical, or other forms of information technology.

Title: Public perceptions of Bats in Fort Collins, Colorado.

OMB Approval No.: New collection.

Abstract: The primary objective of this information collection is to investigate public perceptions, knowledge, and awareness of bats and how this could influence potential transmission of disease (i.e., from bats to bats, bats to pets, bats to humans). A random sample of Fort Collins, Colorado residents and a sample of identified residents known to have had an encounter with a bat will be asked about these bat-related issues via a questionnaire. This information is a vital component for managing bats and developing effective communications protocols regarding bat disease and ecology. This is collaborative effort involving scientists from Colorado State University (CSU), the U.S. Geological Survey (USGS), and Centers for Disease Control and Prevention (CDC).

Bureau Form No.: None.

Frequency: One time.

Description of Respondents: Residents of Fort Collins, Colorado.

Estimated Completion Time: 20 minutes per respondent (approximate).

Number of Respondents: 950.

Burden hours: 317 hours.

For Additional Information Please Contact: Natalie Sexton, (970) 226-9313, or e-mail Natalie_sexton@usgs.gov.

Bureau clearance officer: John Cordyack (703) 648-7313.

Dated: June 24, 2004.
Byron K. Williams,
Acting Associate Director Biology.

[FR Doc. 04-18405 Filed 8-11-04; 8:45 am]

BILLING CODE 4310-Y7-M